DEPARTMENT OF HOMELAND SECURITY

Coast Guard

33 CFR Part 117

[CGD08-04-022]

RIN 1625-AA09

Drawbridge Operation Regulations; White River, Clarendon, AR

AGENCY: Coast Guard, DHS.

ACTION: Notice of temporary deviation from regulations.

SUMMARY: The Commander, Eighth Coast Guard District has issued a temporary deviation from the regulation governing the operation of the St. Louis Southwestern Railroad Drawbridge, across the White River, mile 98.9 at Clarendon, Arkansas. This deviation allows the drawbridge to remain closed to navigation for 8 days from 6 a.m., August 15, 2004, until 6 p.m., August 22, 2004, Central Standard Time. The deviation is necessary to facilitate maintenance work on the bridge that is essential to the continued safe operation of the drawbridge.

DATES: This temporary deviation is effective from 6 a.m., August 15, 2004, through 6 p.m., August 22, 2004.

ADDRESSES: Materials referred to in this document are available for inspection or copying at the office of the Eighth Coast Guard District, Bridge Administration Branch, Commander (obr), Eighth Coast Guard District, 1222 Spruce Street, St. Louis, MO 63103-2832, between 8 a.m. and 4 p.m., Monday through Friday, except Federal holidays. The Bridge Administration Branch maintains the public docket for this temporary deviation.

FOR FURTHER INFORMATION CONTACT: Roger K. Wiebusch, Bridge Administrator, Commander (obr), Eighth Coast Guard District, 1222 Spruce Street, St. Louis, MO 63103-2832, (314) 539-3900, extension 2378.

SUPPLEMENTARY INFORMATION: The Union Pacific Railroad requested a temporary deviation on May 14, 2004, to allow time to conduct preventative maintenance to the St. Louis Southwestern Railroad Drawbridge, across the White River, mile 98.9 at Clarendon, Arkansas. The St. Louis Southwestern Railroad Drawbridge currently operates in accordance with 33 CFR 117.139 which requires the drawbridge to open on signal for passage of vessel traffic if at least eight hours notice is given. In order to repair machinery, the bridge must be kept in the closed to navigation position. This deviation allows the bridge to remain closed to navigation for 8 days from 6 a.m., August 15, 2004 until 6 p.m., August 22, 2004. There are no alternate routes for vessels transiting through mile 98.9 on the White River. The drawbridge will be incapable of opening for emergencies during the 8-day repair period.

The St. Louis Southwestern Drawbridge provides a vertical clearance of 35 feet above pool stage in the closed to navigation position. Navigation on the waterway consists primarily of commercial tows and recreational watercraft. This deviation has been coordinated with waterway users. No objections were received.

In accordance with 33 CFR 117.35(c), this work will be performed with all due speed in order to return the bridge to normal operation as soon as possible. This deviation from the operating regulations is authorized under 33 CFR 117.35.

Dated: June 30, 2004.
Roger K. Wiebusch,
Bridge Administrator.

[FR Doc. 04-15561 Filed 7-7-04; 8:45 am]

BILLING CODE 4910-15-P